DEPARTMENT OF ENERGY

Federal Energy Regulatory Commission

[Docket No. RP04-105-000]

Dominion Transmission, Inc.; Notice of Tariff Filing

December 16, 2003.

Take notice that on December 8, 2003, Dominion Transmission, Inc. (DTI) tendered for filing as part of its FERC Gas Tariff, Third Revised Volume No. 1, the following tariff sheets, with an effective date of January 7, 2004:

Third Revised Sheet No. 0

Second Revised Sheet No. 212

First Revised Sheet No. 212A

Third Revised Sheet No. 1171

Second Revised Sheet No. 2506

DTI states that the purpose of this filing is simply to revise the tariff for administrative purposes and to correct certain incorrect cross-references within the tariff. DTI states that the filing includes a series of minor tariff changes.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Magalie R. Salas,
Secretary.

[FR Doc. E3-00627 Filed 12-23-03; 8:45 am]

BILLING CODE 6717-01-P